DEPARTMENT OF STATE

[Public Notice 6694]

Wilberforce Pamphlet Publication

AGENCY: Department of State

ACTION: Notice of publication of pamphlet required by section 202 of the William Wilberforce Trafficking Victims Protection Reauthorization Act of 2008, Public Law 110-457.

SUMMARY: Section 202 of the William Wilberforce Trafficking Victims Protection Reauthorization Act of 2008 (WWTVPRA), Public Law 110-457, mandated that the Secretary of State, in consultation with the Secretary of Homeland Security, the Attorney General, and the Secretary of Labor, develop an information pamphlet on legal rights and resources for aliens applying for employment- or education-based nonimmigrant visas. This notice announces the publication of this pamphlet on the Web site of the Bureau of Consular Affairs of the Department of State at: http://travel.state.gov/visa/questions/questions_4413.html.

DATES: The WWTVPRA Pamphlet is effective June 22, 2009.

FOR FURTHER INFORMATION CONTACT: Lawrence B. Kurland, Jr., Legislation and Regulations Division, Visa Services, Department of State, Washington, DC 20520-0106. (202) 663-1260, e-mail (KurlandLB@state.gov).

SUPPLEMENTARY INFORMATION: Section 202 of the William Wilberforce Trafficking Victims Protection Reauthorization Act of 2008 (WWTVPRA), Public Law 110-457, mandated that the Secretary of State, in consultation with the Secretary of Homeland Security, the Attorney General, and the Secretary of Labor, develop an information pamphlet on legal rights and resources for aliens applying for employment- or education-based nonimmigrant visas. Working closely with the Department of Homeland Security (DHS), the Department of Justice (DOJ), the Department of Labor (DOL), and the Department of Health and Human Services (HHS), and in consultation with non-governmental organizations (NGOs) with expertise on the legal rights of workers and victims of severe forms of trafficking in persons, the Department of State has completed this pamphlet, which is posted online at http://Travel.State.gov/ and which will shortly be posted on the Web sites of U.S. embassies and consulates worldwide. The pamphlet, to be distributed to applicants applying for certain employment- or education-based nonimmigrant visa classifications, as provided in the WWTVPRA, notifies nonimmigrant workers in the United States of their rights and gives them resources in the event they fall victim to abuse or human trafficking. The pamphlet represents a major step in the Department's efforts to combat human trafficking and labor rights violations. The Department of State has sent the pamphlet to its partners at DHS, DOJ, DOL, and HHS and would like to let all agencies, NGOs, foreign labor brokers, and other interested persons know that the information is now available and may be copied and provided to other parties.

Dated: July 7, 2009.
Janice L. Jacobs,
Assistant Secretary for Consular Affairs, Department of State.

[FR Doc. E9-16805 Filed 7-14-09; 8:45 am]

BILLING CODE 4710-06-P